DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with February anniversary dates. In accordance with the Department's regulations, we are initiating those administrative reviews. The Department received a request to revoke one antidumping duty order in part.

DATES: Effective Date: March 30, 2010.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with February anniversary dates. With respect to the antidumping duty orders on Frozen Warmwater Shrimp from Brazil, India, Thailand, the People's Republic of China and the Socialist Republic of Vietnam, the initiation of the antidumping duty administrative review for these cases will be published in a separate initiation notice. The Department also received a timely request to revoke in part the antidumping duty order on Stainless Steel Bars from India with respect to one exporter.

Notice of No Sales

Under 19 CFR 351.213(d)(3), the Department may rescind a review where there are no exports, sales, or entries of subject merchandise during the respective period of review (“POR”) listed below. If a producer or exporter named in this notice of initiation had no exports, sales, or entries during the POR, it should notify the Department within 30 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2,1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate-rate status unless they respond to all parts of the questionnaire as mandatory respondents.

Initiation of Reviews

In accordance with section 19 CFR 351.221(c)(1)(i), we are initiating administrative reviews of the following antidumping and countervailing duty orders and findings. We intend to issue the final results of these reviews not later than February 28, 2011.

| Period to be reviewed
Antidumping Duty Proceedings
Brazil:
Frozen Warmwater Shrimp,³ A-351-838 | 2/1/09-1/31/10
Stainless Steel Bar, A-351-825 | 2/1/09-1/31/10
Villares Metals S.A.
India:
Certain Preserved Mushrooms, A-533-813 | 2/1/09-1/31/10
Agro Dutch Foods Limited (Agro Dutch Industries Limited)
Himalya International Ltd.
Hindustan Lever Ltd. (formerly Ponds India, Ltd.)
Transchem, Ltd.
Weikfield Foods Pvt. Ltd.
Stainless Steel Bar, A-533-810 | 2/1/09-1/31/10
Facor Steels Ltd./Ferro Alloys Corporation, Ltd.
Venus Wire Industries Pvt. Ltd./Precision Metals/Sieves Manufacturers (India) Private Limited
India Steel Works, Limited
Mukand, Ltd.
Frozen Warmwater Shrimp,⁴ A-533-840 | 2/1/09-1/31/10
Indonesia:
Certain Preserved Mushrooms, A-560-802 | 2/1/09-1/31/10
PT Eka Timur Raya (ETIRA)
PT Indo Evergreen Agro Business Corp.
PT Karya Kompos Bagas
Tuwuh Agung PT
Republic of Korea:
Certain Cut-to-Length Carbon-Quality Steel Plate, A-580-836 | 2/1/09-1/31/10
Dongkuk Steel Mill Co., Ltd.
Hyosung Corporation
Thailand:
Frozen Warmwater Shrimp,⁵ A-549-822 | 2/1/09-1/31/10
The People's Republic of China:
Certain Preserved Mushrooms,⁶ A-570-851 | 2/1/09-1/31/10
Ayecue (Liaocheng) Foodstuff Co., Ltd.
Blue Field (Sichuan) Food Industrial Co., Ltd.
China National Cereals, Oils & Foodstuffs Import & Export Corp.
China Processed Food Import & Export Co.
Dujiangyan Xingda Foodstuff Co., Ltd.
Fujian Golden Banyan Foodstuffs Co., Ltd.
Fujian Pinghe Baofeng Canned Foods
Fujian Yuxing Fruits and Vegetables Foodstuffs Development Co., Ltd.
Fujian Zishan Group Co., Ltd.
Golden Banyan Foodstuffs Co., Ltd.
Guangxi Eastwing Trading Co., Ltd.
Guangxi Jisheng Foods, Inc.
Longhai Guangfa Food Co., Ltd.
Primera Harvest (Xiangfan) Co., Ltd.
Shandong Fengyu Edible Fungus Corporation Ltd.
Shandong Jiufa Edible Fungus Corporation, Ltd.
Sun Wave Trading Co., Ltd.
Xiamen Greenland Import & Export Co., Ltd.
Xiamen Gulong Import & Export Co., Ltd.
Xiamen International Trade & Industrial Co., Ltd.
Xiamen Jiahua Import & Export Trading Co., Ltd.
Xiamen Longhuai Import & Export Co., Ltd.
Zhangzhou Ganchang Canned Foods Co., Ltd.
Zhangzhou Golden Banyan Foodstuffs Industrial Co., Ltd.
Zhangzhou Tongfa Foods Industry Co., Ltd.
Zhejiang Iceman Food Co., Ltd.
Frozen Warmwater Shrimp,⁷ A-570-893 | 2/1/09-1/31/10
Small Diameter Graphite Electrodes,⁸ A-570-929 | 8/21/08-1/31/10
5-Continent Imp. & Exp. Co., Ltd. (aka Sichuan 5-Continent Imp. & Exp. Co., Ltd.)
Acclcarbon Co., Ltd.
Allied Carbon (China) Co., Limited
Anssen Metallurgy Group Co., Ltd. (aka AMGL)
Beijing Fangda Carbon Tech Co., Ltd.
Beijing Xincheng Sci-Tech. Development Inc. (formerly Beijing Xinchengze Inc.) (subsidiary of XC Carbon Group)
Brilliant Charter Limited
Chengdelh Carbonaceouse Elements Factory
Chengdu Jia Tang Corp.
Chengdu Rongguang Carbon Co., Ltd. (subsidiary of Liaoning Fangda Group Industrial Co., Ltd.)
China Shaanxi Richbond Imp. & Exp. Industrial Corp. Ltd.
China Xingyong Carbon Co., Ltd. (aka Xinghe Xingyong Carbon Co., Ltd.)
CIMM Group Co., Ltd. (formerly China Industrial Mineral & Metals Group)
Dalian Carbon & Graphite Corporation
Dalian Hongrui Carbon Co., Ltd.
Dalian Horton International Trading Co., Ltd.
Dalian LST Metallurgy Co., Ltd.
Dalian Shuangji Co., Ltd.
Dalian Thrive Metallurgy Imp. & Exp. Co., Ltd.
Datong Xincheng Carbon Co., Ltd.
Dechang Shida Carbon Co., Ltd. (aka Sichuan Dechang Shida Co., Ltd.; and subsidiary of Shida Carbon Group)
Dignity Success Investment Trading Co., Ltd.
Double Dragon Metals and Mineral Tools Co., Ltd.
Fangda Carbon New Material Co., Ltd. (subsidiary of Liaoning Fangda Group Industrial Co., Ltd. and formerly Lanzhou Hailong New Material Co)
Foset Co., Ltd. (aka Shanxi Foset Carbon Co. Ltd.)
Fushun Carbon Co., Ltd. (subsidiary of Liaoning Fangda Group Industrial Co., Ltd. and formerly Fushun Carbon Plant)
Fushun Jinli Petrochemical Carbon Co., Ltd. (aka Fushun Jinly Petrochemical Carbon Co., Ltd.)
GES (China) Co., Ltd. (aka Shanghai GC Co., Ltd.)
Guangdong Highsun Yongye (Group) Co., Ltd. (formerly Moaming Yongye (Group) Co., Ltd.)
Guanghan Shida Carbon Co., Ltd. (aka Sichuan Guanghan Shida Carbon Co., Ltd.; a subsidiary of Shida Carbon Group)
Haimen Shuguang Carbon Industry Co., Ltd.
Handan Hanbo Material Co., Ltd.
Hebei Long Great Wall Electrode Co., Ltd. (aka Chang Cheng Chang Electrode Co., Ltd. and Laishui Long Great Wall Electrode Co. Ltd.)
Hefei Carbon Co., Ltd. (subsidiary of Liaoning Fangda Group Industrial Co., Ltd.)
Heilongjiang Xinyuan Metacarbon Company, Ltd. (Heilongjiang Xinyuan Carbon Products Co., Ltd.)
Henan Sanli Carbon Products Co., Ltd.
Hopes (Beijing) International Co., Ltd.
Hunan Mec Machinery and Electronics Imp. & Exp. Corp.
Hunan Yinguang Carbon Factory Co., Ltd.
Inner Mongolia Xinghe County Hongyuan Electrical Carbon Factory
Jiang Long Carbon
Jiangsu Yafei Carbon Co., Ltd.
Jiaozuo Zhongzhou Carbon Products Co., Ltd.
Jichun International Trade Co., Ltd. of Jilin Province
Jiexiu Juyuan Carbon Co., Ltd./Jiexiu Ju-Yuan & Coaly Co., Ltd.
Jilin Carbon Graphite Material Co., Ltd. (exporter for Sinosteel Jilin Carbon Plant)
Jilin Carbon Import and Export Company (aka Sinosteel Jilin Carbon Co., Ltd.)
Jilin Songjiang Carbon Co Ltd.
Jinyu Thermo-Electric Material Co., Ltd.
Kaifeng Carbon Company Ltd.
Kingstone Industrial Group Ltd.
L & T Group Co., Ltd.
Lanzhou Carbon Co., Ltd./Lanzhou Carbon Import & Export Corp. (aka Fangda Lanzhou Carbon Joint Stock Company Co. Ltd.; Lanzhou Hailong Technology; Lanzhou Hailong New Material Co.)
Lanzhou Ruixin Industrial Material Co., Ltd.
LH Carbon Factory of Chengde
Lianyungang Jinli Carbon Co., Ltd. (aka Lianyungang Jianglida Co., Ltd.)
Liaoyang Carbon Co. Ltd.
Linghai Hongfeng Carbon Products Co., Ltd.
Linyi County Lubei Carbon Co., Ltd.
Nantong Falter New Energy Co., Ltd.
Nantong River-East Carbon Joint Stock Co., Ltd. (aka Nantong River-East Carbon Co., Ltd.)
Nantong Yangtze Carbon Corp. Ltd.
Orient (Dalian) Carbon Resouces Developing Co., Ltd.
Peixian Longxiang Foreign Trade Co. Ltd.
Qingdao Grand Graphite Products Co., Ltd.
Qingdao Haosheng Metals Imp. & Exp. Co., Ltd. (aka Quingdao Haosheng Metals & Minerals Imp. & Exp. Co., Ltd.)
Qingdao Liyikun Carbon Development Co., Ltd. (aka Qingdao Likun Graphite Co., Ltd.)
Qingdao Ruizhen Carbon Co., Ltd.
Rt Carbon Co., Ltd.
Ruitong Carbon Co., Ltd.
Shandong Basan Carbon Plant
Shanghai Carbon International Trade Co., Ltd. (affiliate of Xuzhou Jianglong Carbon Manufacture Co., Ltd.)
Shanghai GC Co., Ltd. (affiliated with GES (China) Co., Ltd.)
Shanghai Jinneng International Trade Co., Ltd. (affiliated with Jinneng Group)
Shanghai P.W. International Ltd.
Shanghai Topstate International Trading Co., Ltd.
Shanxi Datong Energy Development Co., Ltd. (aka Datong Carbon; subsidiary of Shanxi Jinneng Group Co., Ltd.)
Shanxi Jiexiu Import and Export Co., Ltd.
Shanxi Jinneng Group Co., Ltd.
Shanxi Yunheng Graphite Electrode Co., Ltd. (affiliated with Datong Carbon Plant)
Shenyang Jinli Metals & Minerals Imp. & Exp. Co., Ltd.
Shida Carbon Group
Shijaizhuang Carbon Co., Ltd.
Shijiazhuang Huanan Carbon Factory (aka Huanan Carbon Factory)
Sichuan Shida Trading Co., Ltd. (subsidiary of Shida Carbon Group)
Sichuan GMT International Inc.
Sinosteel Anhui Co., Ltd. (subsidiary of Sinosteel Corp.)
Sinosteel Jilin Carbon Co., Ltd./Sinosteel Jilin Carbon Imp. & Exp. Co., Ltd. (subsidiary of Sinosteel Corp.)
Sinosteel Sichuan Co., Ltd. (subsidiary of Sinosteel Corp.)
SMMC Group Co., Ltd.
Tangshan Kimwan Special Carbon & Graphite Co., Ltd.
Tengchong Carbon Co., Ltd.
Tianjin (Teda) Iron & Steel Trade Co., Ltd.
Tianjin Yue Yang Industrial & Trading Co., Ltd.
Tianzhen Jintian Graphite Electrodes Co., Ltd.
Tielong (Chengdu) Carbon Co., Ltd.
UK Carbon & Graphite
United Carbon Ltd.
World Trade Metals & Minerals Co., Ltd.
Xinghe County Muzi Carbon Co., Ltd. (aka Xinghe County Muzi Carbon Plant)
Xinghe Xinyuan Carbon Products Co., Ltd.
Xinyuan Carbon Co., Ltd.
Xuanhua Hongli Refractory and Mineral Company
Xuchang Minmetals & Industry Co., Ltd.
Xuzhou Jianglong Carbon Manufacture Co., Ltd. (aka Xuzhou Carbon Co., Ltd.; formerly Xuzhou Electrode Factory)
Yangzhou Qionghua Carbon Trading Ltd.
Yixing Huaxin Imp & Exp Co. Ltd.
Youth Industry Co., Ltd.
Zhengzhou Jinyu Thermo-Electric Material Co., Ltd.
Zibo Continent Carbon Factory (aka Shandong Zibo Continent Carbon Factory, aka Zibo Wuzhou Tanshun Carbon Co., Ltd.)
Zibo DuoCheng Trading Co., Ltd.
Zibo Lianxing Carbon Co., Ltd. (affiliated with Lianxing Carbon (Shandong) Co., Ltd., Weifang Lianxing Carbon Co., Ltd., Lianxing Carbon Qinghai Co., Ltd., and Lianxing Carbon Science Institute)
Uncovered Innerspring Units,⁹ A-570-928 | 2/2/09-1/31/10
Foshan Jingxin Steel Wire & Spring Co., Ltd.
Top One Manufacturing Factory
Socialist Republic of Vietnam:
Frozen Warmwater Shrimp,¹⁰ A-552-802 | 2/1/09-1/31/10

Countervailing Duty Proceedings

None.

Suspension Agreements

None.

³ The initiation of the administrative review for the above referenced case will be published in a separate initiation notice.

⁴ The initiation of the administrative review for the above referenced case will be published in a separate initiation notice.

⁵ The initiation of the administrative review for the above referenced case will be published in a separate initiation notice.

⁶ If the above-named companies do not qualify for a separate rate, all other exporters of Certain Preserved Mushrooms from the People's Republic of China (“PRC”) who have not qualified for a separate rate are deemed to be covered by this review as part of the single PRC entity of which the named exporters are a part.

⁷ The initiation of the administrative review for the above referenced case will be published in a separate initiation notice.

⁸ If the above-named companies do not qualify for a separate rate, all other exporters of Small Diameter Graphite Electrodes from the PRC who have not qualified for a separate rate are deemed to be covered by this review as part of the single PRC entity of which the named exporters are a part.

⁹ If the above-named companies do not qualify for a separate rate, all other exporters of Uncovered Innerspring Units from the PRC who have not qualified for a separate rate are deemed to be covered by this review as part of the single PRC entity of which the named exporters are a part.

¹⁰ The initiation of the administrative review for the above referenced case will be published in a separate initiation notice.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1675(a)), and 19 CFR 351.221(c)(1)(i).

Dated: March 19, 2010.
John M. Andersen,
Acting Deputy Assistant Secretary for Antidumping and Countervailing Duty Operations.

[FR Doc. 2010-7070 Filed 3-29-10; 8:45 am]

BILLING CODE 3510-DS-P